DEPARTMENT OF THE INTERIOR

Bureau of Land Management

[ID-086-1990-HP]

Notice

AGENCY: Bureau of Land Management, Upper Columbia-Salmon Clearwater District, Idaho.

ACTION: Notice of Restriction Order for BLM Lands in Boundary, Bonner, Kootenai, Shoshone and Benewah Counties, Order No. ID-080-22.

SUMMARY: Pursuant to 43 Code of Federal Regulations (CFR) subpart 8364, the following act is prohibited on lands administered by the Bureau of Land Management within Boundary, Bonner, Kottenai, Shoshone and Benewah Counties in Idaho:

Going into any abandoned underground opening including, but not limited to, adits and shafts that are the result of past mining activities.

This order becomes effective immediately and will remain in effect until rescinded or revoked.

These restrictions are necessary to protect public health and safety, and for the protection of threatened, rare, or vanishing species of animals and plants.

Pursuant to 43 CFR 8364.1(b)(4) the following persons are exempt from this order:

1. Any authorized federal, state or local officer, or person(s), including contractors working under the authorized officer's supervision, or member of an organized rescue or fire fighting force in the performance of an official duty.

2. Any qualified person or entity who has made written application or notification to the authorized officer, and received written acknowledgment/approval, in relation to authorized mineral activities conducted under 43 CFR Part 3000 Minerals Management.

3. Person(s) with a written permit from the authorized officer in their possession.

Violation of this order is punishable by a fine not to exceed $1,000 and/or imprisonment not to exceed 12 months.

FOR FURTHER INFORMATION CONTACT: Jim Robbins, Mining Engineer, Coeur d'Alene Field Office, 1808 N. Third St., Coeur d'Alene, ID 83814. Phone (208) 769-5032.

Dated: February 10, 2000.
Ted Graf,
Acting District Manager.

[FR Doc. 00-4398 Filed 2-24-00; 8:45 am]

BILLING CODE 4310-GG-M